DEPARTMENT OF TRANSPORTATION

National Highway Traffic Safety Administration

[Docket No. NHTSA-2002-13955; Notice 1]

Columbia Body Manufacturing Co.; Application for Temporary Exemption From Federal Motor Vehicle Safety Standard No. 224

We are asking for comments on the application by Columbia Body Manufacturing Co. (“Columbia”) of Clackamas, Oregon, for an exemption of three years from Motor Vehicle Safety Standard No. 224, Rear Impact Protection. Columbia asserts that compliance would cause substantial economic hardship to a manufacturer that has tried in good faith to comply with the standard.

We are publishing this notice of receipt of the application in accordance with our regulations on the subject. This action does not mean that we have made a judgment yet about the merits of the application.

Columbia's Need for an Exemption

Columbia manufactures and sells a dump body type of trailer (the “trailer”) which means that the body's front end must be lifted in order to discharge the load out of the back. The load is asphalt, used in road construction. This design of trailer generally has an overhang at the rear for funneling asphalt material into a paving machine; consequently, it needs 16 to 18 inches of unobstructed clearance behind its rear wheels to hook up with the paving machine and dump its load. Standard No. 224 requires the rearmost surface of an underride guard to be located not more than 305mm (12 inches) from the “rear extremity” of the trailer.

Standard No. 224 requires, effective January 26, 1998, that all trailers with a GVWR of 4536 kg or more, including Columbia's, be fitted with a rear impact guard that conforms to Standard No. 223 Rear impact guards. Columbia argued that installation of the rear impact guard would prevent its trailer from operating with the paving machine, and “would interfere with the hook-up of the asphalt machine and dump operation of the trailer.” Columbia avers that it “has investigated the retrofit and modifications needed to bring our products into compliance with FMVSS 224 without success.” We discuss below its efforts to conform in greater detail.

Columbia's Reasons Why It Believes That Compliance Would Cause It Substantial Economic Hardship and That It Has Tried in Good Faith To Comply With Standard No. 224

Columbia is a small volume manufacturer. Its average production over the past three years has been 12 trailers a year, “none of which were asphalt paving trailers.” Normally, it would produce 10 to 40 trailers annually. The company employs 30 people full time and has annual sales of $4-5,000,000. Columbia “has had requests to quote on 14” trailers and “14 truck mounted dump boxes, bringing the total sales figure to around $750,000.00.” Absent an exemption, Columbia “will be unable to quote these units substantially decreasing our projected sales figures.” Its cumulative net loss for the fiscal years 1998, 1999, and 2000 was $99,764. We have asked Columbia to provide data on its fiscal year ending December 31, 2001.

Columbia asserted that it has sought manufacturers of underride guards since 1998. As a result of its search,

We only found one English company, Quinton-Hazell that is no longer making either type, telescoping or hydraulic. Their research found that because of the expense of these two types of guards they would not be marketable. We have also investigated the work done by SRAC, located in Los Angeles, CA in the hopes that we might be able to use or modify the guards they designed for the trailers we wish to build. Neither was suitable because retracting the bumper and finding a way to keep the build up of asphalt off of any moving parts was not possible.

The company stated that it intended to continue to try and resolve the problems through continued research.

Columbia's Reasons Why It Believes That a Temporary Exemption Would Be in the Public Interest and Consistent With Objectives of Motor Vehicle Safety

Columbia believes that an exemption would be in the public interest and consistent with traffic safety objectives because, “our type of trailer helps state and municipal governments to produce the safe highways that are needed.” It contemplates building less than 50 units a year while an exemption is in effect. Further, the amount of time actually spent on the road is limited because of the need to move the asphalt to the job site before it hardens.

How You May Comment on Columbia's Application

If you would like to comment on Columbia's application, please do so in writing, in duplicate, referring to the docket and notice number, and mail to: Docket Management, National Highway Traffic Safety Administration, room PL-401, 400 Seventh Street, SW., Washington, DC 20590.

We shall consider all comments received before the close of business on the date indicated below. Comments are available for examination in the docket in room PL-401 both before and after that date, between the hours of 10 a.m. and 5 p.m. To the extent possible, we also consider comments filed after the closing date. We will publish our decision on the application, pursuant to the authority indicated below.

Comment closing date: January 3, 2003.

Authority: 49 U.S.C. 30113; delegations of authority at 49 CFR 1.50 and 501.4.

Issued on: November 27, 2002.
Stephen R. Kratzke,
Associate Administrator for Rulemaking.

[FR Doc. 02-30734 Filed 12-3-02; 8:45 am]

BILLING CODE 4910-59-P